TENNESSEE VALLEY AUTHORITY

Paperwork Reduction Act of 1995, as Amended by Public Law 104-13; Submission for OMB Review; Comment Request

AGENCY: Tennessee Valley Authority.

ACTION: Submission for OMB Review; comment request.

SUMMARY: The proposed information collection described below will be submitted to the Office of Management and Budget (OMB) for review, as required by the Paperwork Reduction Act of 1995 (44 U.S.C. Chapter 35, as amended). The Tennessee Valley Authority is soliciting public comments on this proposed collection as provided by 5 CFR Section 1320.8(d)(1). Requests for information, including copies of the information collection proposed and supporting documentation, should be directed to the Agency Clearance Officer: Alice D. Witt, Tennessee Valley Authority, 1101 Market Street (EB-5B), Chattanooga, TN 37402-2801; (423) 751-6832. (SC: 0003D1Z)Comments should be sent to OMB Office of Information and Regulatory Affairs, Attention: Desk Officer for Tennessee Valley Authority no later than April 1, 2004.

SUPPLEMENTARY INFORMATION: Type of Request: Regular submission; proposal for an extension of a currently approved collection, with revisions, which will expire February 29, 2004 (OMB control number 3316-0009).

Title of Information Collection: Salary Survey for Salary Policy Bargaining Unit Employees.

Frequency of Use: Triennial.

Type of affected Public: State or local governments, Federal agencies, non-profit institutions, businesses, or other for-profit.

Small Businesses or Organizations Affected: No.

Federal Budget Functional Category Code: 999.

Estimated Number of Triennial Responses: 100.

Estimated Total Triennial Burden Hours: 1,400.

Estimated Average Burden Hours Per Response: 3.5.

Need For and Use of Information: TVA conducts a triennial salary survey for employee compensation and benefits as a basis for labor negotiations in determining prevailing rates of pay and benefits for represented salary policy employees. TVA surveys firms, and Federal, State, and local governments whose employees perform work similar to that of TVA's salary policy employees.

Jacklyn J. Stephenson,
Senior Manager, Enterprise Operations, Information Services.

[FR Doc. 04-4559 Filed 3-1-04; 8:45 am]

BILLING CODE 8120-08-P